FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 011707-021.

Agreement Name: Gulf/South America Discussion Agreement.

Parties: BBC Chartering Carriers GmbH & Co. KG and BBC Chartering Logistics GmbH & Co. KG (acting as a single party); and Intermarine Carriers LLC.

Filing Party: Wayne Rohde; Cozen O'Connor.

Synopsis: The amendment deletes Industrial Maritime Carrier, L.L.C. as a party to the Agreement.

Proposed Effective Date: 12/3/2024.

Location: https://www2.fmc.gov/FMC.Agreements.Web/Public/AgreementHistory/684.

Agreement No.: 201437.

Agreement Name: ONE/WHL Slot Exchange Agreement.

Parties: Ocean Network Express Pte. Ltd; and Wan Hai Lines Ltd. and Wan Hai Lines (Singapore) PTE Ltd. (acting as a single party).

Filing Party: Rebecca Fenneman; Jeffrey/Fenneman Law and Strategy PLLC.

Synopsis: The Agreement authorizes the Parties to exchange slots in the trade between Vietnam, China, Korea, and Taiwan, on the one hand, and the U.S. West Coast on the other hand.

Proposed Effective Date: 12/4/2024.

Location: https://www2.fmc.gov/FMC.Agreements.Web/Public/AgreementHistory/86583.

Dated: December 6, 2024.
Alanna Beck,
Federal Register Alternate Liaison Officer.

[FR Doc. 2024-29109 Filed 12-10-24; 8:45 am]

BILLING CODE 6730-02-P